DEPARTMENT OF TRANSPORTATION

National Highway Traffic Safety Administration

Reports, Forms and Recordkeeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register notice with a 60-day comment period was published on May, 2001 (66 FR 24178-24179).

DATES: Comments must be submitted on or before November 9, 2001.

FOR FURTHER INFORMATION CONTACT: Mr. Paul Tremont at the National Highway Traffic Safety Administration, Office of Research and Traffic Records (NTS-31), 202-366-5587. 400 Seventh Street, SW, Room 6240, Washington, DC 20590.

SUPPLEMENTARY INFORMATION:

National Highway Traffic Safety Administration

Title: National Survey of Speeding, Driving While Distracted and Other Unsafe Driving Behaviors.

OMB Number: 2127-NEW.

Type of Request: New information collection.

Abstract: The National Highway Traffic Safety Administration (NHTSA) plays a central role in the national effort to reduce motor vehicle related traffic injuries and deaths. Last year more than 38,000 deaths and several million injuries occurred as direct result of motor vehicle crashes. There is strong evidence to suggest that most of these crashes are caused by human errors, such as speeding, aggressive driving, driver distraction and fatigue, and are thus avoidable.

The proposed survey, will gather data on the nature and extent of these problem-driving behaviors with the objective of providing the basis for the development of countermeasures to them. Data will be collected on topics covered in the 1997 Speeding & Unsafe Driving survey, and also will include questions on distracted, aggressive and fatigue-related driving. Question areas will cover characteristics of drivers who perform these various unsafe driving actions, and the situations accompanying unsafe actions. Data will also be acquired on distractions drivers are subject to, including wireless phones, the situations that lead to these distractions, and the way they are managed while driving.

Affected Public: Individuals or households.

Estimated Total Annual Burden: 1000.

ADDRESSES: Send comments, within 30 days, to the Office of Information and Regulatory Affairs, Office of Management and Budget, 725-17th Street, NW, Washington, D.C. 20503, Attention NHTSA Desk Officer.

Comments Are Invited On

Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A comment to OMB is most effective if OMB receives it within 30 days of publication.

Issued in Washington, DC, on October 4, 2001.
Herman L. Simms,
Associate Administrator for Administration.

[FR Doc. 01-25424 Filed 10-9-01; 8:45 am]

BILLING CODE 4910-59-P